DEPARTMENT OF DEFENSE

Office of the Secretary

[Docket ID: DoD-2022-OS-0121]

Manual for Courts-Martial; Proposed Amendments

AGENCY: Joint Service Committee on Military Justice (JSC), Department of Defense (DoD).

ACTION: Notice of availability of proposed amendments to the Manual for Courts-Martial, United States (2019 ed.), supplementary materials, and notice of public meeting.

SUMMARY: The DoD requests comments on proposed changes to the Manual for Courts-Martial (MCM), United States (2019 ed.). The proposed changes are based on the Fiscal Year 2022 National Defense Authorization Act and certain recommendations of the Independent Review Commission on Sexual Assault in the Military. Due to the volume of proposed changes, they should be reviewed in their entirety. The approval authority for the changes to the MCM is the President, while the approval authority for the changes to the supplementary materials is the General Counsel of the DoD.

DATES: Comments on the proposed changes must be received no later than December 19, 2022. A public meeting to receive comments concerning the proposed changes will be held on November 16, 2022, at 10:00 a.m. in the United States Court of Appeals for the Armed Forces building, 450 E Street NW, Washington, DC 20442-0001.

ADDRESSES: You may submit comments, identified by docket number and title, by any of the following methods:

• Federal eRulemaking Portal: http://www.regulations.gov. Follow the instructions for submitting comments.

• Mail: Department of Defense, Office of the Assistant to the Secretary of Defense for Privacy, Civil Liberties, and Transparency, Regulatory Directorate, 4800 Mark Center Drive, Mailbox #24, Suite 08D09, Alexandria, VA 22350-1700.

• JSC Portal: http://jsc.defense.gov/Contact. Follow the instructions for submitting comments.

Instructions: All submissions received must include the agency name and docket number for this Federal Register document. The general policy for comments and other submissions from members of the public is to make these submissions available for public viewing on the internet at http://www.regulations.gov as they are received without change, including any personal identifiers or contact information.

FOR FURTHER INFORMATION CONTACT: Major Kelly Haslup, U.S. Air Force, Executive Secretary, JSC, (240) 612-4820, kelly.haslup@us.af.mil. The JSC website is located at http://jsc.defense.gov.

SUPPLEMENTARY INFORMATION: Due to the length of the proposed changes, they are being made available on the internet rather than being printed in the Federal Register. The following items are available at http://www.regulations.gov, Docket ID: DoD-2022-OS-0121.

1. A draft Executive Order.

2. The Annex to the draft Executive Order.

3. Draft revisions to the supplementary materials accompanying the Manual for Courts-Martial.

The full text of the 2019 MCM is available electronically at https://jsc.defense.gov/Military-Law/Current-Publications-and-Updates/.

These proposed changes have not been coordinated within the DoD under DoD Directive 5500.01, “Preparing, Processing and Coordinating Legislation, Executive Orders, Proclamations, Views Letters, and Testimony,” June 15, 2007, and do not constitute the official position of the DoD, the Military Departments, or any other Government agency.

This notice is provided in accordance with DoD Instruction 5500.17, “Role and Responsibilities of the Joint Service Committee on Military Justice (JSC),” February 21, 2018.

The JSC invites members of the public to comment on the proposed changes; such comments should address specific recommended changes and provide supporting rationale.

This notice also sets forth the date, time, and location for a public meeting of the JSC to discuss the proposed changes.

This notice is intended only to improve the internal management of the Federal Government. It is not intended to create any right or benefit, substantive or procedural, enforceable at law by any party against the United States, its agencies, its officers, or any person.

Dated: October 13, 2022.
Aaron T. Siegel,
Alternate OSD Federal Register Liaison Officer, Department of Defense.

[FR Doc. 2022-22718 Filed 10-18-22; 8:45 am]

BILLING CODE 5001-06-P